ENVIRONMENTAL PROTECTION AGENCY

[EPA-New England Region I—EPA-R01-OW-2008-0212; FRL-8553-4]

Massachusetts Marine Sanitation Device Standard—Receipt of Petition

AGENCY: Environmental Protection Agency (EPA).

ACTION: Notice—Receipt of Petition.

SUMMARY: Notice is hereby given that a petition has been received from the State of Massachusetts requesting a determination by the Regional Administrator, U. S. Environmental Protection Agency, that adequate facilities for the safe and sanitary removal and treatment of sewage from all vessels are reasonably available for the waters of Scituate, Marshfield, Cohasset, and the tidal portions of the North and South Rivers.

DATES: Comments must be received on or before May 12, 2008.

ADDRESSES: Submit your comments, identified by Docket ID No. EPA-R01-OW-2008-0212 by one of the following methods:

• http://www.regulations.gov, Follow the on-line instructions for submitting comments.

• E-mail: rodney.ann@epa.gov.

• Fax: (617) 918-0538.

• Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0212. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the State of Massachusetts requesting a determination by the Regional Administrator, U.S. Environmental Protection Agency, pursuant to section 312(f)(3) of Public Law 92-500 as amended by Public Law 95-217 and Public Law 100-4, that adequate facilities for the safe and sanitary removal and treatment of sewage from all vessels are reasonably available coastlines and coastal tidal rivers within the following boundaries:

Waterbody/general area | Latitude | Longitude
Northern extent of Green Harbor at the RT 139 causeway | 42°05′11″N | 70°39′03″W
South and west along the South River to the Willow Street Bridge | 42°05′34″N | 70°42′43″W
South and west along the North River to Columbia Road Bridge | 42°06′26″N | 70°48′31″W
South along the navigable extent of the Gulf River | 42°13′30″N | 70°47′06″W

The proposed NDA boundary will also include coastal waters within municipal boundaries, westward of a delineation that extends from:

Waterbody/general area | Latitude | Longitude
Marshfield municipal boundary | 42°04′22″N | 70°38′54″W
East to navigational marker R “2GH” located off Howland Ledge | 42°04′36″N | 70°36′48″W
North to navigational marker G “21” F1 G 4 S. Whistle located east of Minot Light | 42°16′33″N | 70°42′20″W
Northwest on a heading to Thieves Ledge G “1” QG Whistle. | 42°19′33″N | 70°49′50″W
To Cohasset municipal boundary | 42°18′34″N | 70°47′25″W
Southwest to Cohasset municipal boundary | 42°15′53″N | 70°49′34″W

The proposed area includes the municipal waters of Scituate, Marshfield, Cohasset, and the tidal portions of the North and South Rivers.

Massachusetts has certified that there are ten pumpout facilities within the proposed area available to the boating public and two additional facilities pending. A list of the facilities, phone numbers, locations, and hours of operation is at the end of this petition.

Massachusetts has provided documentation indicating that the total vessel population is estimated to be 3,000 in the proposed area. It is estimated that 1,363 of the total vessel population may have a Marine Sanitation Device (MSD) of some type. The majority of facilities are connected directly into the local wastewater treatment system.

In 1977, the Department of the Interior designated the North and South Rivers as National Natural Landmarks, and in 1978 the North River received a Protective Order under the state Scenic Rivers Act of 1971. The Wompatuck State Park, the English State Salt Marsh Wildlife Refuge/Management Area, and the Weir River Area of Critical Environmental Concern (ACEC) are all located within the proposed boundaries of this petition. There are approximately eight marinas, five public boat ramps, and over a dozen beaches located within the proposed No Discharge Area.

Both recreational and commercial shell fishermen use the area. There are ten designated Shellfish Growing Areas representing over 49,500 acres of productive shellfish beds in the area supporting soft shell clams, blue mussels, razor clams, quahogs, bay scallops, oysters, and surf clams. The area supports a thriving commercial and recreational fishing fleet. The proposed area has a variety of rich natural habitats, and supports a wide diversity of species.

Pumpout Facilities Within Proposed No Discharge Area
Name | Location | Contact info. | Hours | Mean low water depth
Cohasset Harbormaster | Cohasset Harbor | (781) 383-0863, VHF 10,16 | 15 May-1 Nov, 9 a.m.-9 p.m | N/A Boat Service.
Cole Parkway Marina | Scituate Harbor | (781) 545-2130, VHF 9 | 15 May-15 Oct, 8 a.m.-4 p.m | 6 ft.
Harbor Mooring Service | North and South Rivers | (781) 544-3130, Cell (617) 281-4365, VHF 9 | 15 April-1 Nov, Service provided on-call | N/A, Boat Service.
James Landing Marina | Herring River, Scituate | (781) 545-3000 | 1 May-15 Oct, 8 a.m.-4:30 p.m | 6 ft.
Waterline Mooring | Scituate Harbor | (781) 545-4154, VHF 9, 16 | 15 May-15 Oct, 8 a.m.-5 p.m., or by appointment | N/A, Boat Service.
Green Harbor Town Pier | Green Harbor, Marshfield | (781) 834-5541, VHF 9,16 | 1 April-15 Nov, 24/7 Self-Serve, 15 May-30 Sept, Attendant Service, 8 a.m.-11:30 p.m | 4 ft.
Bridgewaye Marina | South River, Marshfield | (781) 837-9343, VHF 9, 11 | 15 June-15 Oct, 9-5 p.m | 6 ft.
Erickson's Marina | South River, Marshfield | (781) 837-2687 | 15 March-15 Nov, 8 a.m.-5 p.m | 4 ft.
White's Ferry Marina | South River, Marshfield | (781) 837-9343, VHF 9, 11 | 15 June-15 Oct, 9-5 p.m | 4 ft.
Mary's Boat Livery | North River, Marshfield | (781) 837-2322, VHF 9, 16 | 15 May-1 Oct, 8 a.m.-4 p.m | 4 ft.
** Marshfield Yacht Club | South River, Marshfield | TBA | TBA | TBA.
** South River Boat Ramp | South River, Marshfield | TBA | TBA | TBA.
** = Pending facilities.

Dated: April 4, 2008.
Robert W. Varney,
Regional Administrator, EPA—New England Region I.

[FR Doc. E8-7793 Filed 4-10-08; 8:45 am]

BILLING CODE 6560-50-P